DEPARTMENT OF COMMERCE

National Oceanic and Atmospheric Administration

50 CFR Part 660

[Docket No. 221206-0261]

RIN 0648-BM02

Magnuson-Stevens Act Provisions; Fisheries Off West Coast States; Pacific Coast Groundfish Fishery; 2023-2024 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial and recreational groundfish fisheries. This action is intended to allow fishing vessels to access more abundant groundfish stocks while protecting rebuilding stocks.

DATES: This final rule is effective January 26, 2023.

ADDRESSES: Electronic Access: This rule is accessible via the internet at the Office of the Federal Register website at https://www.federalregister.gov. Background information and documents are available at the Pacific Fishery Management Council's website at http://www.pcouncil.org/.

FOR FURTHER INFORMATION CONTACT: Dr. Sean Matson, phone: 206-526-6187 or email: sean.matson@noaa.gov.

SUPPLEMENTARY INFORMATION:

Background

The Pacific Coast Groundfish Fishery Management Plan (PCGFMP) and its implementing regulations at title 50 in the Code of Federal Regulations (CFR), part 660, subparts C through G, regulate fishing for over 90 species of groundfish seaward of Washington, Oregon, and California. The Pacific Fishery Management Council (Council) develops groundfish harvest specifications and management measures for 2-year periods (biennia). NMFS published the final rule to implement harvest specifications and management measures for the 2023-2024 biennium for most species managed under the PCGFMP on December 16, 2022 (87 FR 77007). The management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its November 2022 meeting, the Council recommended modifying fixed gear trip limits for limited entry (LE) and open access (OA) sablefish, north of 36° N latitude, for LE canary rockfish north and south of 40°10′ N latitude, and for LE and OA lingcod north of 42° N latitude; as well as modifying bag limits in the Oregon recreational long-leader fishery, after updated information regarding projected catch and attainment became available, as well as requests from industry. Pacific Coast groundfish fisheries are managed using harvest specifications or limits (e.g., overfishing limits [OFL], acceptable biological catch [ABC], annual catch limits [ACL] and harvest guidelines [HG]) recommended biennially by the Council and based on the best scientific information available at that time (50 CFR 660.60(b)). During development of the harvest specifications, the Council also recommends management measures (e.g., trip limits, area closures, and bag limits) that are meant to control catch so as not to exceed the harvest specifications. The harvest specifications and management measures developed for the 2023-2024 biennium used data through the 2021 fishing year. Each of the adjustments to management measures discussed below are based on updated fisheries information that was unavailable when the analysis for the current harvest specifications was completed. As new fisheries data becomes available, adjustments to management measures are projected so as to help harvesters achieve but not exceed the harvest limits.

Sablefish

Sablefish is an important commercial species on the West Coast with vessels targeting sablefish with both trawl and fixed gear (longlines and pots/traps). Sablefish is managed with separate ACLs for the two areas north and south of 36° N lat. The 2023 ACLs for the North and South are 8,486 mt and 2,338 mt, respectively.

At the November 2022 Council meeting, the Council's Groundfish Management Team (GMT) received requests from industry members and members of the Council's Groundfish Advisory Subpanel (GAP) to examine the potential to increase sablefish trips limits for the fixed gear, LE and OA fisheries north of 36° N lat. The intent of increasing trip limits is to increase harvest opportunities for vessels targeting sablefish. To evaluate potential increases to sablefish trip limits for the LE and OA fisheries, the GMT made model-based landings projections under current regulations and alternative sablefish trip limits, including the limits ultimately recommended by the Council, through the remainder of 2023. Table 1 shows the projected sablefish landings by fishery, relevant sablefish allocations, and the projected attainment as a percentage of the landing target, under both the current trip limits and the Council's recommended adjusted trip limits. These projections were based on the most recent catch information available through late October 2022. Since industry did not request changes to sablefish trip limits for either the LE or OA fishery south of 36° N lat., NMFS and the Council did not consider trip limit changes for those southern fisheries at this time.

Table 1—Projected Landings, Allocation, and Projected Percentage of Sablefish Attained Through 2023 by Trip Limit and Fishery
[Values in parentheses show uncertainty range]
Fishery | Trip limits | Projected landings (mt) | Landing target (mt) | Projected target attainment (percent)
LE North of 36° N lat | Current: 2,400 lb/week, not to exceed 4,800 lb/two months | 151 (117-186) | 417 | 36 (28-45)
| Recommended: 4,500 lb/week, not to exceed 9,000 lb/two months | 253 (196-310) |  | 61 (47-74)
OA North of 36° N lat | Current: 2,000 lb/week, not to exceed 4,000 lb/two months | 322 (278-367) | 687 | 47 (40-53)
| Recommended: 3,000 lb/week, not to exceed 6,000 lb/two months | 448 (386-509) |  | 65 (56-74)

As shown in Table 1, under the current trip limits, the models predict landings of sablefish will be at 36 percent, or 151 mt of the 417 mt landing target (the target is the allocation share converted to landings, reduced for discard mortality) for LE fishery north of 36° N lat.; and 47 percent, or 322 mt of the 687 mt landing target, for the OA fishery north of 36° N lat. Under the Council's recommended trip limits, sablefish attainment is projected to increase in the LE and OA fisheries north of 36° N lat., to 61 and 65 percent, respectively.

Trip limit increases for sablefish are intended to increase attainment of the non-trawl HG. The proposed trip limit increases do not change projected impacts to co-occurring overfished species compared to the impacts anticipated in the 2023-2024 harvest specifications because the projected impacts to those species assume that the entire sablefish ACL is harvested. Therefore, the Council recommended and NMFS is implementing, by modifying Tables 2 North and South to part 660, subpart E, and Tables 3 North and South to part 660, subpart F, trip limit changes for the LE sablefish fishery north of 36° N lat. and trip limit changes for the OA sablefish fishery north of 36° N lat. as shown above in Table 1. These changes will start with Period 1 (January and February) and remain in place through the end of 2023 and beyond, unless otherwise modified.

Canary Rockfish

Prior to the November 2022 meeting, the GMT received a request from the GAP to increase the canary rockfish OA north of 40°10′ N lat. trip limit both to enable a viable alternative to potentially limited Dungeness crab fishing opportunities at the beginning of the year, and to better align with the yellowtail rockfish trip limit in order to reduce regulatory discarding of canary rockfish. The 2023 coastwide ACL for canary rockfish is 1,284 mt.

To evaluate potential increases to canary rockfish trip limits, the GMT made model-based landings projections under current regulations and alternative trip limits, including the limits ultimately recommended by the Council, for the LE and OA fisheries throughout the 2023 fishing year. The GMT evaluated changes to the trip limits for canary rockfish both north and south of 40°10′ N lat. Table 2 shows the projected canary rockfish landings, the canary rockfish allocations, and the projected attainment percentage by fishery under both the current trip limits and the Council's recommended adjusted trip limits for north of 40°10′ N lat. and Table 3 shows the same metrics for south of 40°10′ N lat. These projections were based on the most recent catch information available through late October 2022.

Table 2—Projected Landings and Attainment for Canary Rockfish, for the 2023 Fishing Year by Fishery, Area, and Trip Limit, Under Current Regulations
Fishery | Trip limit | Projected landings (mt) | Projected sum landings (mt) | Percent attainment 2023 non-trawl share (121.2 mt)
LE North of 40°10′ N lat | 3,000 lb/two months | 4.2 | 27.5 | 23
OA North of 40°10′ N lat | 1,000 lb/two months | 5.2 |  |
LE South of 40°10′ N lat | 3,500 lb/two months | 5.9 |  |
OA South of 40°10′ N lat | 1,500 lb/two months | 12.2 |  |

Table 3—Projected Landings and Attainment for Canary Rockfish, for the 2023 Fishing Year by Fishery, Area, and Trip Limit, Under Council-Recommended Trip Limits
Fishery | Trip limit | Projected landings (mt) | Projected sum landings (mt) | Percent attainment 2023 non-trawl share (121.2 mt)
LE North of 40°10′ N lat | 4,000 lb/two months | 5.6 | 39 | 32
OA North of 40°10′ N lat | 2,000 lb/two months | 10.4 |  |
LE South of 40°10′ N lat | 4,000 lb/two months | 6.8 |  |
OA South of 40°10′ N lat | 2,000 lb/two months | 16.2 |  |

Under the current trip limits, the model predicts catches of canary rockfish coastwide will total 27.5 mt (including discard mortality), which is 23 percent of the 2023 non-trawl commercial share of canary rockfish (121.2 mt). Under the Council's recommended trip limits, canary rockfish mortality is expected to increase to 39 mt coastwide (including discard mortality), which is 32 percent of the 2023 non-trawl commercial share of canary rockfish.

Trip limit increases for canary rockfish are intended to increase attainment of the non-trawl commercial share. The proposed trip limit increases do not change projected impacts to co-occurring overfished species compared to the impacts anticipated in the 2023-2024 harvest specifications because the projected impacts to those species assume that the entire canary rockfish ACL is harvested. Therefore, the Council recommended and NMFS is implementing, by modifying Tables 2 North and South to part 660, subpart E, and Tables 3 North and South to part 660, subpart F, trip limit changes for LE canary rockfish north and south of 40°10′ N lat. and trip limit changes for OA canary rockfish fishery north and south of 40°10′ N lat. as shown above in Tables 2 and 3. These changes will start with Period 1 (January and February) and remain in place through the end of 2023 and beyond, unless otherwise modified.

Lingcod

For the November 2022 meeting, the GMT also received a request to continue the lingcod trip limits north of 42° N lat. at the same levels from Period 6 of 2022, in order to continue the effect of reduced regulatory discarding and increased economic opportunity. Lingcod is managed with an ACL north of 40°10′ N lat. and an ACL south of 40°10′ N lat. The 2023 ACL for lingcod north of 40°10′ N lat. is 4,378 mt.

To evaluate potential impacts of the requested increases to lingcod trip limits north of 42° N lat., the GMT made model-based landings projections under current regulations and alternative trip limits, including the limits ultimately recommended by the Council, for the LE and OA fisheries for 2023. Table 4 shows the projected lingcod landings, the lingcod allocations, the projected attainment percentage, and accompanying estimated yelloweye rockfish impacts by fishery, under both the current trip limits and the Council's recommended adjusted trip limits for north of 42° N lat. These projections were based on the most recent catch information available through October 2022.

Table 4—Projected Landings of Lingcod, Lingcod Allocation, Projected Percentage of Lingcod North of 42° N Lat. Attained Through the End of the Year by Trip Limit and Fishery, Together With Projected Yelloweye Rockfish Impacts
Fishery | Trip limits | Projected lingcod landings (mt) | Non-trawl lingcod allocation (mt) | Projected lingcod attainment (percent) | Projected yelloweye rockfish impacts (mt)
LE North of 42° N lat | Current: 5,000 lb/two months | 24.3 | 2,573.8 | 5.2 | 1.11
OA North of 42° N lat | Current: 2,500 lb/month | 110.4 |  |  |
LE North of 42° N lat | Recommended: 7,000 lb/two months | 30.0 | 2573.8 | 6.2 | 1.32
OA North of 42° N lat | Recommended: 3,500/month | 129.4 |  |  |

Under the current trip limits, the model predicts catches of lingcod north of 42° N lat. will total 134.7 mt, which is 5.2 percent of the 2023 non-trawl allocation of lingcod (2,573.8 mt). Under the Council's recommended trip limits, lingcod mortality north of 42° N lat. is expected to increase to 159.4 mt, which is 6.2 percent of the 2023 non-trawl allocation of lingcod (2,573.8 mt).

Trip limit increases for lingcod are intended to marginally increase attainment of the non-trawl allocation. The proposed trip limit increases do not appreciably change projected impacts to co-occurring rebuilding species (yelloweye rockfish) compared to the impacts anticipated in the 2023-2024 harvest specifications (Table 4). At the higher level of the lingcod non-trawl allocation, projected impacts to yelloweye rockfish are still projected to be the same under either current or recommended trip limits (3.9 mt), due a projection of yelloweye bycatch levels assuming the entire lingcod allocation is attained, in the harvest specifications analysis.

Therefore, the Council recommended and NMFS is implementing, by modifying Table 2 North to part 660, subpart E, and Table 3 North to part 660, subpart F, trip limit changes for LE and OA lingcod north of 42° N lat. as shown above in Table 4. These changes will start with Period 1 (January and February) and remain in place through the end of 2023 and beyond, unless otherwise modified.

Oregon Recreational Long-Leader Fishery

At the November 2022 Council meeting, the GMT and ODFW received requests from members of industry and the GAP, to examine the potential for increasing the daily bag limit in the Oregon recreational long-leader fishery to more than the current 10 fish per day. Increasing the daily bag limit is intended to encourage additional anglers to participate in the long-leader fishery, in order to reduce effort on nearshore stocks such as black, China, copper, and quillback rockfishes because the 2023-24 harvest limits for many nearshore rockfish stocks are very small. At the same time, Oregon experienced record groundfish effort in 2022, which fits within a continuing trend of high effort since 2015 forward, and implies similar fishery behavior in 2023. Impacts of the proposed action were analyzed by ODFW staff, and the Council ultimately recommended the daily bag limit in the Oregon recreational long-leader fishery to be increased from 10 to 15 fish per day.

ODFW staff presented an analysis in which they deterministically projected 2023 catch by expanding results of the long-leader EFP (2018-2022), to simulate potential catch under a 15 fish per day limit. The results appear in Table 5. ODFW staff found that the increases in catch were small and well within relevant harvest specifications.

Table 5—ODFW's Projected Annual Impacts in mt (Salmon = Counts), for 15 Fish and 10 Fish per Day Bag Limit Using Long-Leader Gear ᵃ
Species | Projected average catch (recommended) | Projected max (recommended) | Hist. avg. with 10 fish limit (current) | Potential max additional impacts (proj. max− current avg.)
Yellowtail RF | 23.58 | 39.87 | 15.72 | 24.15
Widow RF | 4.47 | 10.24 | 2.98 | 7.26
Canary RF | 12.84 | 17.13 | 8.56 | 8.58
Silvergray RF | 0.12 | 0.22 | 0.08 | 0.14
Redstripe RF | 0.02 | 0.03 | 0.01 | 0.01
Greenstriped RF | 0.01 | 0.02 | 0.01 | 0.01
Chillipepper RF | 0.02 | 0.09 | 0.02 | 0.08
Deacon RF | 0.14 | 0.33 | 0.09 | 0.24
Black RF | 0.01 | 0.03 | 0.01 | 0.03
Blue RF | 0.01 | 0.03 | 0.01 | 0.03
Yelloweye RF (discard mortality) | 0.2 | 0.29 | 0.13 | 0.16
Quillback RF | 0 | 0 | 0 | 0
Bocaccio | 1.89 | 4.11 | 1.26 | 2.85
Vermilion RF | 0 | 0 | 0 | 0
Copper RF | 0 | 0 | 0 | 0
Chinook Salmon | 32 | 96 | 21 | 75
Coho Salmon | 217 | 561 | 145 | 416
ᵃ Columns from left to right: Species; Projected average catch w/15 fish per day limit (recommended); Projected maximum catch with 15 fish per day limit (recommended); Historical average catch using 10 fish per day limit (current); Potential maximum additional impacts (difference between Projected Maximum and Historical average under 10-fish limit (current), column 3 minus column 4).

Using a conservative approach (risk averse), using the difference between the expanded (1.5x) maximum annual actual catch from the 5-year period, and subtracting the average actual catch from the same period, ODFW staff provided an estimate of “Potential maximum additional impacts” (far right column, Table 5), as projections of maximum potential additional catch as a result of increasing the bag limit from 10 to 15 fish. As evidence of inconsequential impacts to the ACLs, the analysis also compared the “potential maximum additional impacts”, with the amount of uncaught fish for each species, in the most recent fishing year (2021), noting that for species other than yellowtail, canary, widow, and yelloweye rockfish, the projected maximum impacts were less than 0.3 mt, and thus were not presented (Table 6). For those species with projected maximum catch greater than 0.3 mt, 2021 catch statistics (most recent complete data year available) showed sizable buffers in attainment of the non-trawl allocation, which would easily absorb the projected additional mortality of this action (Table 6).

Table 6—2021 Harvest Specifications, Sector-Specific Allocations, and Mortality Estimates, and 2023 Projections (Right Column) for Yellowtail, Widow, Canary, Yelloweye, and Bocaccio Rockfishes
Species | ACL | Total mortality | Percent of ACL attainment | Non-trawl allocation | Non-trawl mort. | % of non-trawl allocation | OR rec. HG | OR rec. mort. | Potential max addition. impacts
Yellowtail | 6,050 | 2,931 | 48 | 601.5 | 96 | 16 | N/A | 28 | 24.2
Widow | 14,725 | 10,880 | 74 | 400 | 11.5 | 3 | N/A | 3.6 | 7.3
Canary | 1,338 | 562 | 42 | 351.6 | 178.3 | 51 | 65.06 | 38.5 | 8.6
Yelloweye | 50 | 18 | 36 | 37.9 | 16.7 | 44 | 6.9 | 3.3 | 0.16
Bocaccio north of 40°10′ N lat | 221 | 89 | 40 | N/A | N/A | N/A | N/A | 0.5 | 2.9

The proposed bag limit increases do not appreciably change projected impacts to co-occurring rebuilding species (yelloweye rockfish) compared to the impacts anticipated in the 2023-2024 harvest specifications (Table 6). Therefore the Council recommended, and NMFS is implementing, trip limit changes for the Oregon recreational long-leader fishery from 10 to 15 fish per day, by modifying 50 CFR part 660.360, subpart G, paragraph (c)(2)(iii)(A)(Marine fish) to maintain the previous restrictions, and place a separate bag limit on the long-leader fishery only. The new paragraph text will read: “(A) Marine fish. The bag limit is 10 marine fish per day, which includes rockfish, kelp greenling, cabezon and other groundfish species; except the daily bag limit in the long-leader gear fishery is 15 fish per day. The bag limit of marine fish excludes Pacific halibut, salmonids, tuna, perch species, sturgeon, sanddabs, flatfish, lingcod, striped bass, hybrid bass, offshore pelagic species and baitfish (herring, smelt, anchovies and sardines). The minimum size for cabezon retained in the Oregon recreational fishery is 16 in (41 cm) total length.” These changes will be effective beginning in January, 2023 and remain in place through the end of 2023 and beyond, unless otherwise modified.

Classification

This final rule makes routine inseason adjustments to groundfish fishery management measures, based on the best scientific information available, consistent with the PCGFMP and its implementing regulations.

This action is taken under the authority of 50 CFR 660.60(c) and is exempt from review under Executive Order 12866.

The aggregate data upon which these actions are based, are available for public inspection by contacting Dr. Sean Matson in NMFS West Coast Region (see FOR FURTHER INFORMATION CONTACT, above), or view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. The adjustments to management measures in this document increase trip limits for fisheries in Washington, Oregon, and California to allow additional economic opportunity while keeping catch within allocations established by the 2023-2024 harvest specifications. The trip limit increases are for the LE and OA sectors for sablefish north of 36° N lat., canary rockfish, and lingcod north of 42° N lat. Over the year 2023, these changes are projected to potentially increase economic value of the fisheries by $989,793 for sablefish, $71,025 for canary, and $122,777 for lingcod, as well as reduce regulatory discards in these fisheries. The increases to bag limits in the Oregon recreational long-leader fishery are needed to encourage seaward effort redistribution, in order to prevent conservation issues in the nearshore. No aspect of this action is controversial, and changes of this nature were anticipated in the final rule for the 2023-2024 harvest specifications and management measures which published on December 16, 2022 (87 FR 77007).

Delaying implementation to allow for public comment would likely reduce the economic benefits to the commercial fishing industry and the businesses that rely on that industry, because it is unlikely the new regulations would publish and could be implemented in time to realize the projected benefits to fishing communities and the resource. A delay in implementation could also contribute to conservation issues with nearshore rockfish species, without swift implementation incentives for seaward redistribution of recreational fishing effort in the Oregon recreational long-leader fishery. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect fisheries by increasing opportunity and allowing greater economic benefit. These adjustments were requested by the Council's advisory bodies, as well as members of industry during the Council's November 2022 meeting, and recommended unanimously by the Council. No aspect of this action is controversial, and changes of this nature were anticipated in the biennial harvest specifications and management measures established through a notice and comment rulemaking for 2023-2024 (87 FR 77007).

List of Subjects in 50 CFR Part 660

Fisheries, Fishing, and Indian Fisheries.

Authority: 16 U.S.C. 1801 et seq., 16 U.S.C. 773 et seq., and 16 U.S.C. 7001 et seq.

Dated: January 23, 2023.
Kelly Denit,
Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Revise Table 2 (North) to part 660, subpart E, to read as follows:

BILLING CODE 3510-22-P

3. Revise Table 2 (South) to part 660, subpart E, to read as follows:

4. Revise Table 3 (North) to part 660, subpart F, to read as follows:

5. Revise Table 3 (South) to part 660, subpart F, to read as follows:

6. In § 660.360, revise paragraph (c)(2)(iii)(A) to read as follows:

(c) * * *

(2) * * *

(iii) * * *

(A) Marine fish. The bag limit is 10 marine fish per day, which includes rockfish, kelp greenling, cabezon and other groundfish species; except the daily bag limit in the long-leader gear fishery is 15 fish per day. The bag limit of marine fish excludes Pacific halibut, salmonids, tuna, perch species, sturgeon, sanddabs, flatfish, lingcod, striped bass, hybrid bass, offshore pelagic species and baitfish (herring, smelt, anchovies and sardines). The minimum size for cabezon retained in the Oregon recreational fishery is 16 in (41 cm) total length.

* * * * *

[FR Doc. 2023-01571 Filed 1-23-23; 4:15 pm]

BILLING CODE 3510-22-C